DEPARTMENT OF TRANSPORTATION

Federal Motor Carrier Safety Administration

[Docket No. FMCSA 2012-0074]

Improvements to the Compliance, Safety, Accountability (CSA) Motor Carrier Safety Measurement System (SMS)

AGENCY: Federal Motor Carrier Safety Administration (FMCSA), DOT.

ACTION: Notice; extension of comment period.

SUMMARY: On March 27, 2012, FMCSA announced planned improvements to the Carrier Safety Measurement System (SMS). A preview of these improvements and their potential effects on a motor carrier's status has been available to motor carriers and law enforcement since publication of the notice. The system changes were scheduled to be implemented for use in prioritizing FMCSA and State intervention resources and made available to the public on the SMS public Web site in July 2012. However, based on feedback received by the Agency, FMCSA extends the comment period for motor carriers and law enforcement to July 30, 2012.

DATES: Comments must be received on or before July 30, 2012.

ADDRESSES: You may submit comments identified by Federal Docket Management System Number FMCSA-2012-0074 by any of the following methods:

• Federal eRulemaking Portal: http://www.regulations.gov. Follow the online instructions for submitting comments.

• Fax: 1-202-493-2251.

• Mail: Docket Management Facility, (M-30), U.S. Department of Transportation (DOT), 1200 New Jersey Avenue SE., West Building, Ground Floor, Room 12-140, Washington, DC 20590-0001.

• Hand Delivery: Same as mail address above, between 9 a.m. and 5 p.m., ET, Monday through Friday, except Federal holidays. The telephone number is 202-366-9329.

To avoid duplication, please use only one of these four methods. All submissions must include the Agency name and docket number for this notice. See the “Public Participation” heading below for instructions on submitting comments and additional information.

Note that all comments received, including any personal information provided, will be posted without change to http://www.regulations.gov. Please see the “Privacy Act” heading below.

Docket: For access to the docket to read background documents or comments received, go to http://www.regulations.gov at any time or to Room W12-140 on the ground floor of the DOT Headquarters Building at 1200 New Jersey Avenue SE., Washington, DC 20590, between 9 a.m. and 5 p.m., ET, Monday through Friday, except Federal holidays.

Privacy Act: Anyone is able to search the electronic form of all comments received into any of our dockets by the name of the individual submitting the comment (or signing the comment, if submitted on behalf of an association, business, labor union, etc.). You may review DOT's Privacy Act System of Records Notice for the DOT Federal Docket Management System published in the Federal Register on January 17, 2008 (73 FR 3316).

Public Participation: The http://www.regulations.gov Web site is generally available 24 hours each day, 365 days each year. You can get electronic submission and retrieval help and guidelines under the “help” section of the http://www.regulations.gov Web site. Comments received after the comment closing date will be included in the docket, and will be considered to the extent practicable.

FOR FURTHER INFORMATION CONTACT: Mr. Bryan Price, Federal Motor Carrier Safety Administration, 1000 Liberty Avenue, Suite 1300, Pittsburgh, PA 15222, Telephone 412-395-4816, E-Mail: bryan.price@dot.gov.

SUPPLEMENTARY INFORMATION: On March 27, 2012, (77 FR 18298), FMCSA published a notice announcing changes to the Agency's Safety Measurement System and a preview period for law enforcement and motor carriers to assess the impact of the changes. We provided a 60-day period for initial comments from motor carriers and law enforcement that would have expired on May 29, 2012. However, based on feedback received by the Agency, this comment period is being extended 60 days to July 30, 2012. Once the preview is complete an additional opportunity will be provided for public review and comment.

The improvements proposed include: (1) Changes to the SMS methodology that find higher risk carriers while addressing industry biases; (2) Better applications of SMS results for Agency interventions by more effectively identifying safety sensitive carriers (i.e., passenger carriers transporting people and carriers hauling hazardous materials (HM)), so that such firms can be selected for CSA interventions at more stringent levels; and, (3) More specific fact-based displays of SMS results on the SMS Web site.

This extension will provide motor carriers with additional time to preview how the improvements impact their individual safety data in SMS. Motor carriers will have additional time to take action related to their data in the SMS, and additional time to provide comments to the Agency. The data preview may be found at http://csa.fmcsa.dot.gov/. During the extended preview period, FMCSA will be conducting additional outreach to further explain the proposed changes to SMS and to encourage additional motor carriers to view the preview site and to provide comments. As part of these outreach efforts, FMCSA plans to offer a series of webinars related to the proposed SMS improvements and the data preview site. Details regarding the date and time of these webinars, and how to register, will be posted to the above Web site.

During the data preview period, the Agency requests comments on the impacts of the changes.

Issued: May 17, 2012.
William Quade,
Associate Administrator for Enforcement.

[FR Doc. 2012-12634 Filed 5-23-12; 8:45 am]

BILLING CODE 4910-EX-P